DEPARTMENT OF AGRICULTURE

Food Safety and Inspection Service

9 CFR Part 390

[Docket No. FSIS-2006-0009]

Public Meeting To Discuss the Proposed Rule on the Availability of Lists of Retail Consignees During Meat or Poultry Product Recalls

AGENCY: Food Safety and Inspection Service, USDA.

ACTION: Notice of public meeting; request for comments.

SUMMARY: The Food Safety and Inspection Service (FSIS) will hold a public meeting to solicit comments on its proposal to make available to the public lists of the retail consignees of meat and poultry products that have voluntarily been recalled by a federally inspected meat or poultry establishment if product has been distributed to the retail level. FSIS has proposed to routinely post these retail consignee lists on its Web site as they are developed by the Agency during its recall verification activities.

There will be a five-minute time limit for each commenter who presents at the meeting.

DATES: The public meeting will be held on April 24, 2006, from 9:30 a.m. to 12 p.m. Registration for the meeting will begin at 9 a.m.

ADDRESSES: The public meeting will take place in the conference room at the south end of the U.S. Department of Agriculture cafeteria located in the South Building, 1400 Independence Avenue, SW., Washington, DC, 20250. Meeting attendees must enter the South Building at Wing 2, C Street, SW.

FSIS will finalize an agenda on or before the meeting date and will post it on the FSIS Internet Web page http://www.fsis.usda.gov/News/Meetings_&_Events/. Interested persons may submit comments on this notice. Comments may be submitted by any of the following methods:

• Federal eRulemaking Portal: This Web site provides the ability to type short comments directly into the comment field on this Web page or attach a file for lengthier comments. Go to http://www.regulations.gov and, in the “Search for Open Regulations” box, select “Food Safety and Inspection Service” from the agency drop-down menu, and then click on “Submit.” In the Docket ID column, select FDMS Docket Number FSIS-2006-0009 to submit or view public comments and to view supporting and related materials available electronically. This docket can be viewed using the “Advanced Search” function in Regulations.gov.

• Mail, including floppy disks or CD-ROM's, and hand- or courier-delivered items: Send to Docket Clerk, U.S. Department of Agriculture, Food Safety and Inspection Service, 300 12th Street, SW., Room 102 Cotton Annex, Washington, DC 20250.

• Electronic mail: fsis.regulationscomments@fsis.usda.gov.

All submissions received by mail and electronic mail must include the Agency name and docket number FSIS-2006-0009. All comments submitted in response to this notice will be available for public inspection in the FSIS Docket Room at the address listed above between 8:30 a.m. and 4:30 p.m., Monday through Friday. The comments also will be posted to the regulations.gov Web site and on the Agency's Web site at http://www.fsis.usda.gov/regulations_&_policies/2006_Notices_Index/index.asp.

FOR FURTHER INFORMATION CONTACT: Victoria A. Levine, Program Analyst, Regulations and Petitions Policy Staff, Office of Policy, Program, and Employee Development, Room 112, Cotton Annex, 300 12th Street, SW., Washington, DC 20250-3700; Telephone (202) 720-5627, e-mail victoria.levine@fsis.usda.gov. Pre-registration for this meeting is required. To pre-register, please contact Diane Jones at (202) 720-9692 or by e-mail at Diane.Jones@fsis.usda.gov. Persons requiring a sign language interpreter or special accommodations should contact Ms. Jones as soon as possible.

SUPPLEMENTARY INFORMATION: On March 7, 2006, FSIS published in the Federal Register a proposed rule titled Availability of Lists of Retail Consignees During Meat or Poultry Product Recalls (71 FR 11326). In the preamble to the proposed rule, FSIS indicated that it would hold a public meeting to solicit comments on the issue raised in the proposal. Therefore, FSIS is holding this public meeting to solicit comment on FSIS' proposal to amend the federal meat and poultry products inspection regulations to provide that the Agency will make available to the public lists of the retail consignees of meat and poultry products that have been voluntarily recalled by a federally inspected meat or poultry products establishment if product has been distributed to the retail level. FSIS has proposed to routinely post these retail consignee lists on its website as they are developed by the Agency during its recall verification activities.

FSIS proposed this action because it believes that the efficiency of recalls will be improved if there is more information available as to where products that have been recalled were sold. By providing consumers this information, FSIS believes that consumers will be more likely to identify and return such products to those locations or to dispose of them. This action will apply only to meat and poultry products.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2006_Notices_Index/index.asp.

The Regulations.gov website is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The website is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

In addition, FSIS offers an email subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done in Washington, DC: April 3, 2006.
Barbara J. Masters,
Administrator.

[FR Doc. E6-5013 Filed 4-5-06; 8:45 am]

BILLING CODE 3410-DM-P